DEPARTMENT OF VETERANS AFFAIRS

Enhanced-Use Lease of the U.S. Department of Veterans Affairs Real Property for the Development of a Permanent Supportive Housing Facility at the Clement J. Zablocki VA Medical Center in Milwaukee, Wisconsin

AGENCY: U.S. Department of Veterans Affairs.

ACTION: Notice of intent.

SUMMARY: The Secretary of the Department of Veterans Affairs (VA) intends to enter into an EUL for the purpose of outleasing Buildings #1, 2, 14, 18, 19, 62, and 64 on approximately 4 acres of underutilized land on the Clement J. Zablocki VA Medical Center, consisting of approximately 101 housing units under different phases (Phase I will consist of 80 housing units in Building #2, and Phase II will consist of approximately 21 housing units in the remaining 6 buildings) to provide permanent supportive housing for veterans. The EUL lessee, National Soldiers Home Residences I, LLC, will finance, design, develop, rehabilitate, manage, maintain, and operate housing for eligible homeless veterans, or veterans at-risk of homelessness, and their families, as well as provide services that guide resident veterans toward attaining long-term self-sufficiency.

FOR FURTHER INFORMATION CONTACT: Edward L. Bradley III, Office of Asset Enterprise Management (044), Department of Veterans Affairs, 810 Vermont Avenue NW, Washington, DC 20420, Edward.Bradley@va.gov, (202) 461-7778 (this is not a toll-free number).

SUPPLEMENTARY INFORMATION: Title 38 United States Code § 8161, et seq., authorizes the Secretary to enter into an EUL for the provision of supportive housing, if the lease would not be inconsistent with and will not adversely affect the mission of the Department. This project comports with those parameters.

Signing Authority

The Secretary of Veterans Affairs approved this document and authorized the undersigned to sign and submit the document to the Office of the Federal Register for publication electronically as an official document of the Department of Veterans Affairs. Robert L. Wilkie, Secretary, Department of Veterans Affairs, approved this document on September 19, 2018, for publication.

Dated: September 19, 2018.
Jeffrey M. Martin,
Impact Analyst, Office of Regulation Policy & Management, Office of the Secretary, Department of Veterans Affairs.

[FR Doc. 2018-21056 Filed 9-26-18; 8:45 am]

BILLING CODE 8320-01-P